NATIONAL AERONAUTICS AND SPACE ADMINISTRATION

[NOTICE (09-034)]

Notice of Information Collection Under OMB Review

AGENCY: National Aeronautics and Space Administration (NASA).

ACTION: Notice of information collection under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Jasmeet Seehra, Desk Officer for NASA; Office of Information and Regulatory Affairs; Room 10236; New Executive Office Building; Washington, DC 20503.

FOR FURTHER INFORMATION CONTACT: Requests for additional information or copies of the information collection instrument(s) and instructions should be directed to Dr. Walter Kit, NASA Clearance Officer, NASA Headquarters, 300 E Street, SW., JF000, Washington, DC 20546, (202) 358-1350, Walter.Kit-1@nasa.gov.

SUPPLEMENTARY INFORMATION:

I. Abstract

The subject information collection involves the collection of data to support the operation of the Lewis' Educational and Research Collaborative Internship Program (LERCIP). The purpose of this undergraduate and graduate scholarship program is to develop the future STEM (Science, Technology, Engineering and Mathematics) workforce in the United States. LERCIP is a NASA Center unique program that provides paid 10-week internships to graduating high school students through PhD candidates.

II. Method of Collection

Respondents will complete an online application form hosted on an LERCIP Web site. Applicants will be asked to establish a unique login and password on their initial visit to the Web site. The applicants may use the login and password to return to the Web site and complete their application in multiple sessions, if needed. All applicant data will be collected online using database technologies.

III. Data

Title: LERCIP Student Application.

OMB Number: 2700-XXXX.

Type of review: New Collection.

Affected Public: Individuals or households.

Estimated Number of Respondents: 300.

Estimated Number of Responses per Respondent: 1.

Estimated Time per Response: 0.67 hour.

Estimated Total Annual Burden Hours: 201 hours.

Estimated Annual Cost for Respondents: $0.00.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Walter Kit,
NASA Clearance Officer.

[FR Doc. E9-7543 Filed 4-2-09; 8:45 am]

BILLING CODE 7510-13-P